DEPARTMENT OF ENERGY

Federal Energy Regulatory Commission

[Docket No. RP01-205-001]

Southern Natural Gas Company; Notice of Tariff Filing

February 28, 2001.

Take notice that on February 23, 2001, Southern Natural Gas Company (Southern), tendered for filing as part of its FERC Gas Tariff, Seventh Revised Volume No. 1, the following tariff sheets, with an effective date of February 1, 2001:

Fourth Revised Sheet No. 23

Third Revised Sheet No. 24

Third Revised Sheet No. 25

Substitute Third Revised Sheet No. 208

Southern states that the purpose of the filing is to clarify that Southern may file either the negotiated rate contract or a tariff sheet with the contract information and negotiated rate formula or rate and to provide an explanation of Southern's proposal regarding the prevention of cost-shifting from negotiated rate shippers to recourse rate shippers both in compliance with the Commission's order dated January 24, 2001 in Docket No. RP01-205.

Southern states that copies of the filing will be served upon its shippers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5359 Filed 3-5-01; 8:45 am]

BILLING CODE 6717-01-M